DEPARTMENT OF VETERANS AFFAIRS

[OMB Control No. 2900-NEW]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on the information needed to guarantee loans for construction or rehabilitation of multifamily transitional housing for homeless veterans.

DATES: Written comments and recommendations on the proposed collection of information should be received on or before March 18, 2002.

ADDRESSES: Submit written comments on the collection of information to Ann Bickoff, Veterans Health Administration (193B1), Department of Veterans Affairs, 810 Vermont Avenue, NW, Washington, DC 20420 or e-mail: ann.bickoff@mail.va.gov. Please refer to “OMB Control No. 2900-NEW” in any correspondence.

FOR FURTHER INFORMATION CONTACT: Ann Bickoff at (202) 273-8310.

SUPPLEMENTARY INFORMATION: Under the PRA of 1995 (Pub. L. 104-13; 44 U.S.C., 3501-3520), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: VA Multifamily Transitional Housing Loan Guaranty Application, VA Form 10-0365.

OMB Control Number: 2900-NEW.

Type of Review: New collection.

Abstract: VA is authorized to guarantee loans for construction or rehabilitation of multifamily transitional housing for homeless veterans. Loans may include amounts to acquire land, refinance existing loans, finance acquisition of furniture, equipment, supplies and materials and to supply working capital for the organization. The information collected is used to determine financial and program service provider eligibility and apply criteria to rate each application; and to obtain information necessary to ensure minimal defaults and delinquencies, interest subsidies, or other payments.

Affected Public: Not for Profit Institutions, and State, Local or Tribal Government.

Estimated Total Annual Burden: 200 hours.

Estimated Average Burden Per Respondent: 40 hours.

Frequency of Response: On occasion.

Estimated Number of Respondents: 5.

Dated: December 20, 2001.
By direction of the Secretary.
Donald L. Neilson,
Director, Information Management Service.

[FR Doc. 02-992 Filed 1-14-02; 8:45 am]

BILLING CODE 8320-01-P